DEPARTMENT OF THE TREASURY

United States Mint

Establish Pricing and Pricing Changes for 2019 United States Mint Numismatic Products

AGENCY: United States Mint, Department of the Treasury.

ACTION: Notice.

SUPPLEMENTARY INFORMATION: The United States Mint is establishing a price for a new United States Mint numismatic product in accordance with the table below:

Product | 2019 Retail price
United States Mint Youth Coin and Currency SetTM | $29.95

FOR FURTHER INFORMATION CONTACT: Kara Murphy, Marketing Specialist, Sales and Marketing Directorate; United States Mint; 801 9th Street NW, Washington, DC 20220; or call 202-354-7871.

Authority: 31 U.S.C. 5111, 5112, 5132, & 9701.

Dated: August 16, 2019.
Patrick Hernandez,
Acting Deputy Director, United States Mint.

[FR Doc. 2019-18040 Filed 8-20-19; 8:45 am]

BILLING CODE P